FEDERAL COMMUNICATIONS COMMISSION

Public Information Collection Approved by Office of Management and Budget

July 31, 2002.

The Federal Communications Commission (FCC) has received Office of Management and Budget (OMB) approval for the following public information collections pursuant to the Paperwork Reduction Act of 1995, Public Law 104-13. An agency may not conduct or sponsor and a person is not required to respond to a collection of information unless it displays a currently valid control number. Questions concerning the OMB control numbers and expiration dates should be directed to Judy Boley Herman, Federal Communications Commission, (202) 418-0214.

Federal Communications Commission

OMB Control No.: 3060-0939.

Expiration Date: 5/31/04.

Title: E911 Second Memorandum and Order.

Form No.: None.

Respondents: Business or other for profit; Not-for-profit institutions; and State, local, or tribal government entities.

Estimated Annual Burden: 50 responses, approximately 1 hour per response and 50 total annual burden hours.

Estimated Annual Reporting and Recordkeeping Cost Burden: 0.

Frequency of Response: On occasion.

Description: Commercial Mobile Radio Service carriers and Public Safety Answering Points who cannot agree on the choice of transmission means and related technologies may ask the Commission for assistance in settling the disagreement. In approaching the Commission, the involved parties must provide the Commission with information, which will be used by the Commission to understand and resolve such disputes.

Federal Communications Commission.
Marlene H. Dortch,
Secretary.

[FR Doc. 02-19881 Filed 8-6-02; 8:45 am]

BILLING CODE 6712-01-P